DEPARTMENT OF HEALTH AND HUMAN SERVICES

National Institutes of Health

National Cancer Institute; Amended Notice of Meeting

Notice is hereby given of a change in the meeting of the President's Cancer Panel, March 17, 2009, 1 p.m. to 3 p.m. which was published in the Federal Register on February 25, 2009, 74 FR 8557.

This meeting is being amended to reschedule the meeting to Monday, March 23, 2009, 12:30 p.m. to 3 p.m. as a telephone conference. The meeting is closed to the public.

Dated: March 13, 2009.
Jennifer Spaeth,
Director, Office of Federal Advisory Committee Policy.

[FR Doc. E9-6046 Filed 3-18-09; 8:45 am]

BILLING CODE 4140-01-P